DEPARTMENT OF TRANSPORTATION

Federal Aviation Administration

14 CFR Part 39

[Docket No. FAA-2009-0309; Directorate Identifier 2008-NM-173-AD; Amendment 39-16152; AD 2009-26-13]

RIN 2120-AA64

Airworthiness Directives; Airbus Model A330-200, A330-300, A340-200,and A340-300 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Several cases have been reported of in-flight loss of the drive strut fitting from the movable fairing of flap track No. 3. Consequently, the flap track No. 3 fairing was detached from its aft end, and found hanging. Investigations have shown that the detachment of the aft lower drive strut fitting from the fairing occurred due to the four bonded inserts being pulled out.

This condition, if not corrected, could lead to in-flight loss of the affected aircraft parts, potentially resulting in injuries to persons on the ground.

* * * * *

In addition, the potential unsafe condition includes the part potentially impacting the airplane. We are issuing this AD to require actions to correct the unsafe condition on these products.

DATES: This AD becomes effective February 24, 2010.

The Director of the Federal Register approved the incorporation by reference of certain publications listed in this AD as of February 24, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1320.

SUPPLEMENTARY INFORMATION:

Discussion

We issued a notice of proposed rulemaking (NPRM) to amend 14 CFR part 39 to include an AD that would apply to the specified products. That NPRM was published in the Federal Register on April 6, 2009 (74 FR 15401). That NPRM proposed to correct an unsafe condition for the specified products. The MCAI states:

Several cases have been reported of in-flight loss of the drive strut fitting from the movable fairing of flap track No. 3. Consequently, the flap track No. 3 fairing was detached from its aft end, and found hanging. Investigations have shown that the detachment of the aft lower drive strut fitting from the fairing occurred due to the four bonded inserts being pulled out.

This condition, if not corrected, could lead to in-flight loss of the affected aircraft parts, potentially resulting in injuries to persons on the ground.

For the reason described above, this AD requires the modification of the movable flap track fairing No. 3, both Left Hand (LH) and Right Hand (RH) side, and prohibits re-installation of unmodified units.

In addition, the potential unsafe condition includes the part potentially impacting the airplane. You may obtain further information by examining the MCAI in the AD docket.

Comments

We gave the public the opportunity to participate in developing this AD. We considered the comment received.

Request To Change Compliance Time

The Air Transportation Association, on behalf of its member Northwest Airlines (NWA), requests that we change the compliance time of the NPRM. NWA states that paragraph (f)(4) of the NPRM would prohibit installation of unmodified units after the effective date of the AD and that this restriction would have unintended consequences in a line maintenance environment when a fairing is removed for access during unscheduled maintenance because operators could not reinstall the fairing without doing the actions required by the AD. The commenter requests that we revise the NPRM to allow installation of unmodified units until the 60-month compliance time specified in paragraph (f)(1) of the NPRM has passed.

We partially agree. We did not intend to prohibit operators from reinstalling a fairing removed for maintenance. But allowing operators up to 60 months to intermix airworthy and potentially inadequate fairings would conflict with provisions of the Federal Aviation Regulations and would not ensure an adequate level of safety for the fleet. To clarify the requirement, we have revised paragraph (f)(4) in this final rule to prohibit “replacing”—instead of “installing”—the subject part.

We have also added a note to the FAA Differences paragraph to specify that parts cannot be put on as of the effective date of this AD.

Clarification of Unsafe Condition

In addition to the unsafe condition specified in the NPRM, the potential unsafe condition includes the part potentially impacting the airplane. We have revised the Summary section, Discussion section, and paragraph (e) of this AD accordingly.

Conclusion

We reviewed the available data, including the comment received, and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 35 products of U.S. registry. We also estimate that it will take about 19 work-hours per product to comply with the basic requirements of this AD. The average labor rate is $80 per work-hour. Required parts will cost about $647 per product. Where the service information lists required parts costs that are covered under warranty, we have assumed that there will be no charge for these parts. As we do not control warranty coverage for affected parties, some parties may incur costs higher than estimated here. Based on these figures, we estimate the cost of this AD to the U.S. operators to be $75,845, or $2,167 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-26-13 Airbus: Amendment 39-16152. Docket No. FAA-2009-0309; Directorate Identifier 2008-NM-173-AD.

Effective Date

(a) This airworthiness directive (AD) becomes effective February 24, 2010.

Affected ADs

(b) None.

Applicability

(c) This AD applies to the airplanes identified in paragraphs (c)(1) and (c)(2) of this AD, certificated in any category.

(1) Airbus Model A330-201, -202, -203, -223, -243, -301, -302, -303, -321, -322, -323, -341, -342, and -343 airplanes, all manufacturer serial numbers (MSNs), except those on which Airbus Modification 55674 has been embodied in production.

(2) Airbus Model A340-211, -212, -213, -311, -312, and -313 airplanes, all MSNs, except those on which Airbus Modification 55674 has been embodied in production.

Subject

(d) Air Transport Association (ATA) of America Code 57: Wings.

Reason

(e) The mandatory continuing airworthiness information (MCAI) states:

Several cases have been reported of in-flight loss of the drive strut fitting from the movable fairing of flap track No. 3. Consequently, the flap track No. 3 fairing was detached from its aft end, and found hanging. Investigations have shown that the detachment of the aft lower drive strut fitting from the fairing occurred due to the four bonded inserts being pulled out.

This condition, if not corrected, could lead to in-flight loss of the affected aircraft parts, potentially resulting in injuries to persons on the ground.

For the reason described above, this AD requires the modification of the movable flap track fairing No. 3, both Left Hand (LH) and Right Hand (RH) side, and prohibits re-installation of unmodified units.

In addition, the potential unsafe condition includes the part potentially impacting the airplane.

Actions and Compliance

(f) Unless already done, do the following actions.

(1) Within 60 months after the effective date of this AD, modify the left- and right-hand movable flap track fairing No. 3, in accordance with Airbus Mandatory Service Bulletin A330-57-3095, Revision 02; or A340-57-4103, Revision 01; both dated April 3, 2008; as applicable.

(2) Modifying the left- and right-hand movable flap track fairing No. 3 is also acceptable for compliance with the requirements of paragraph (f)(1) of this AD if done before the effective date of this AD, in accordance with Airbus Service Bulletin

A330-57-3095, Revision 01; or A340-57-4103; both dated August 28, 2007; as applicable.

(3) Installing a repaired left- and right-hand movable flap track fairing No. 3 using replacement of a damaged insert by through-bolts at the drive strut attachment fitting is acceptable for compliance with the requirements of paragraph (f)(1) of this AD if done before the effective date of this AD in accordance with the repair instructions specified in Chapter 57-56-11, page block 201, in one of the Airbus structural repair manuals listed in Table 1 of this AD, as applicable.

Table 1—Structural Repair Manuals Acceptable Before the Effective Date of This AD
Document | Revision | Date
Airbus A330 Structural Repair Manual | 60 | October 1, 2008.
Airbus A330 Structural Repair Manual | 61 | January 1, 2009.
Airbus A340-200/-300 Structural Repair Manual | 64 | October 1, 2008.
Airbus A340-200/-300 Structural Repair Manual | 65 | January 1, 2009.

(4) As of the effective date of this AD, no person may replace a movable flap track fairing No. 3 on that airplane, unless the replacement fairing has been modified or repaired in accordance with the requirements of this AD.

FAA AD Differences

Note 1: This AD differs from the MCAI and/or service information as follows: The MCAI prohibits replacement of the affected part after modification, but this AD prohibits replacing the affected part as of the effective date of this AD.

Other FAA AD Provisions

(g) The following provisions also apply to this AD:

(1) Alternative Methods of Compliance (AMOCs): The Manager, International Branch, ANM-116, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1320. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2008-0153, dated August 8, 2008; and Airbus Mandatory Service Bulletins A330-57-3095, Revision 02, and A340-57-4103, Revision 01, both dated April 3, 2008; for related information.

Material Incorporated by Reference

(i) You must use Airbus Mandatory Service Bulletin A330-57-3095, Revision 02, dated April 3, 2008; or Airbus Mandatory Service Bulletin A340-57-4103, Revision 01, dated April 3, 2008; as applicable; to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; fax +33 5 61 93 45 80, e-mail airworthiness.A330-A340@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on December 16, 2009.
Stephen P. Boyd,
Acting Manager,
Transport Airplane Directorate, Aircraft Certification Service.

[FR Doc. 2010-487 Filed 1-19-10; 8:45 am]

BILLING CODE 4910-13-P